DEPARTMENT OF AGRICULTURE

Rural Business-Cooperative Service

Rural Housing Service

Rural Utilities Service

[Docket No. RBS-23-BUSINESS-0025]

Notice of Solicitation of Applications (NOSA) for the Strategic Economic and Community Development Program for Fiscal Year (FY) 2024; Correction

AGENCY: Rural Business-Cooperative Service, Rural Housing Service, and Rural Utilities Service, USDA.

ACTION: Notice; correction.

SUMMARY: The Rural Business-Cooperative Service, Rural Housing Service, and Rural Utilities Service, agencies that comprise the Rural Development Mission Area within the United States Department of Agriculture, published a notice of solicitation of applications in the Federal Register on February 13, 2024, entitled “Notice of Solicitation of Applications (NOSA) for the Strategic Economic and Community Development Program for Fiscal Year (FY) 2024.” The NOSA provides requirements to applicants submitting applications for Strategic Economic and Community Development (SECD) points through Secretary of Agriculture designated covered programs. Based on funding availability guidance published in the NOSA, this Correction Notice is issued to clarify that Community Facilities Grant Program funds will not be reserved for SECD in FY 2024. This Correction Notice also clarifies that approved USDA Rural Partners Network (RPN) networks are considered multi-jurisdictional entities for purposes of SECD and that community and economic development plans created in association with an RPN network will be accepted as plans under SECD.

FOR FURTHER INFORMATION CONTACT: Greg Batson, Rural Development Innovation Center, U.S. Department of Agriculture, Stop 0793, 1400 Independence Avenue SW, Washington, DC 20250-0783, Telephone: (573) 239-2945. Email: gregory.batson@usda.gov.

SUPPLEMENTARY INFORMATION:

Corrections

In FR Doc 2024-02782 of February 13, 2024 (89 FR 10026), make the following correction of reference in the NOSA to “Community Facilities Grants” which is being removed by this Correction:

(1) On page 10026, in column 3, under Supplementary Information in the Overview section, following the funding opportunity number, remove the second bullet for “Community Facilities Grants; see 7 CFR part 3570, subpart B.”

(2) On page 10027, in column 1, under section A.3. The Covered Programs, following the second paragraph, remove the second bullet, “Community Facilities Grants; see 7 CFR part 3570, subpart B.”

(3) On page 10027, in column 2, section B. Federal Award Information, after the Available Funds heading, remove the first three sentences and replace with: “The amount of reserved funds available for SECD covered projects is as follows; Community Facilities Loans funding is $280,000,000, and Community Facilities Guaranteed Loans funding is $32,500,000, Water and Waste Disposal Programs Guaranteed Loans funding is $5,000,000, Water and Waste Disposal Direct Loans funding is $42,500,000, Water and Waste Disposal Grants funding is $11,935,000, and Rural Business Development Grants funding is $1,350,000 for Enterprise Grants and $150,000 for Opportunity Grants.

(4) On page 10027, in column 2, in section B. Federal Award Information, remove the second line of the table referencing “Community Facilities Grant Program” and the associated percentage of funds reserved for SECD Community Facilities Grant Program in column 2 of the table.

(5) On page 10027, in column 3, under section C. Eligibility Information, 1. Eligible Applicants, replace the 5th paragraph with “The third criterion is that the project supports partial or complete implementation of a strategic community investment plan on a multi-jurisdictional and multi-sectoral basis as defined in 7 CFR 1980.1005. USDA Rural Partners Network (RPN) networks are considered multi-jurisdictional entities for purposes of SECD and community and economic development plans created in association with an RPN network will be accepted as plans under SECD.”

Basil I. Gooden,
Under Secretary, Rural Development.

[FR Doc. 2024-09449 Filed 4-30-24; 8:45 am]

BILLING CODE 3410-XY-P